DEPARTMENT OF TRANSPORTATION

National Highway Traffic Safety Administration

49 CFR Part 541

[Docket No. NHTSA-2008-0112]

Final Theft Data; Motor Vehicle Theft Prevention Standard

AGENCY: National Highway Traffic Safety Administration (NHTSA), Department of Transportation.

ACTION: Publication of final theft data.

SUMMARY: This document publishes the final data on thefts of model year (MY) 2006 passenger motor vehicles that occurred in calendar year (CY) 2006. The final 2006 theft data indicated an increase in the vehicle theft rate experienced in CY/MY 2006. The final theft rate for MY 2006 passenger vehicles stolen in calendar year 2006 is 2.08 thefts per thousand vehicles. Publication of these data fulfills NHTSA's statutory obligation to periodically obtain accurate and timely theft data and publish the information for review and comment.

FOR FURTHER INFORMATION CONTACT: Ms. Deborah Mazyck, Office of International Policy, Fuel Economy and Consumer Programs, NHTSA, 1200 New Jersey Avenue, SE., Washington, DC 20590. Ms. Mazyck's telephone number is (202) 366-0846. Her fax number is (202) 493-2990.

SUPPLEMENTARY INFORMATION: NHTSA administers a program for reducing motor vehicle theft. The central feature of this program is the Federal Motor Vehicle Theft Prevention Standard, 49 CFR Part 541. The standard specifies performance requirements for inscribing and affixing vehicle identification numbers (VINs) onto certain major original equipment and replacement parts of high-theft lines of passenger motor vehicles.

The agency is required by 49 U.S.C. 33104(b)(4) to periodically obtain, from the most reliable source, accurate and timely theft data and publish the data for review and comment. To fulfill this statutory mandate, NHTSA has published theft data annually beginning with MYs 1983/84. Continuing to fulfill the § 33104(b)(4) mandate, this document reports the final theft data for CY 2006, the most recent calendar year for which data are available.

In calculating the 2006 theft rates, NHTSA followed the same procedures it used in calculating the MY 2005 theft rates. (For 2005 theft data calculations, see 73 FR 13150, March 12, 2008). As in all previous reports, NHTSA's data were based on information provided to NHTSA by the National Crime Information Center (NCIC) of the Federal Bureau of Investigation. The NCIC is a government system that receives vehicle theft information from nearly 23,000 criminal justice agencies and other law enforcement authorities throughout the United States. The NCIC data also include reported thefts of self-insured and uninsured vehicles, not all of which are reported to other data sources.

The 2006 theft rate for each vehicle line was calculated by dividing the number of reported thefts of MY 2006 vehicles of that line stolen during calendar year 2006 by the total number of vehicles in that line manufactured for MY 2006, as reported to the Environmental Protection Agency (EPA).

The final 2006 theft data show an increase in the vehicle theft rate when compared to the theft rate experienced in CY/MY 2005. The final theft rate for MY 2006 passenger vehicles stolen in calendar year 2006 increased to 2.08 thefts per thousand vehicles produced, an increase of 12.4 percent from the rate of 1.85 thefts per thousand vehicles experienced by MY 2005 vehicles in CY 2005. NHTSA is not overly concerned about this increase in the overall theft rate. The data has shown an overall decreasing trend in theft rates since CY 1993, with periods of increase from one year to the next. As explained in the publication of preliminary theft data, if the final data, for calendar year/model year (CY/MY) 2006 showed a second year of increase, the agency would explore what could be the possible causes for these elevations. The agency also welcomed comments on the cause for this increase but no comments were received. Therefore, as indicated by the publication of preliminary theft rate data, the agency will continue to monitor this theft rate pattern and explore the possible reasons for the elevation in theft rates experienced during MY/CY 2005-2006.

For MY 2006 vehicles, out of a total of 223 vehicle lines, 19 lines had a theft rate higher than 3.5826 per thousand vehicles, the established median theft rate for MYs 1990/1991. (See 59 FR 12400, March 16, 1994). Of the 19 vehicle lines with a theft rate higher than 3.5826, 18 are passenger car lines, one is a multipurpose passenger vehicle lines, and none are light-duty truck lines.

On Monday, July 14, 2008, NHTSA published the preliminary theft rates for CY 2006 passenger motor vehicles in the Federal Register (73 FR 40278). The agency tentatively ranked each of the MY 2006 vehicle lines in descending order of theft rate. The public was requested to comment on the accuracy of the data and to provide final production figures for individual vehicle lines. The agency used written comments to make the necessary adjustments to its data. As a result of the adjustments, some of the final theft rates and rankings of vehicle lines changed from those published in the July 2008 notice.

The agency received a written comment from Volkswagen Group of America, Inc. (VW). In its comments, VW informed the agency that the listing did not include the Volkswagen Touareg vehicle line. In response to this comment, the agency notes the Touareg vehicle line has a gross vehicle weight rating (GVWR) over 6,000 pounds, therefore, since the scope of the Federal Motor Vehicle Theft Prevention Standard only includes vehicles with a GVWR of 6,000 pounds or less, the Volkswagen Touareg will not be included on the listing. VW also informed the agency that the entries for the Volkswagen Bentley Arnage and the Volkswagen Bentley Continental were listed with incorrect manufacturer designations. The final theft data has been revised to reflect that Bentley Motors is the manufacturer for the Arnage and the Continental vehicles. Additionally, VW noted errors in the ranking order of some of the vehicle lines having 0.0000 theft rates. As a result of this error, the final theft data has been revised to correct the ranking order of those vehicle lines having a 0.0000 theft rate. VW also informed the agency that the production volume listed for the Audi TT vehicle line was incorrect. After further review of the final production volumes VW reported to the EPA, the production volume for the Audi TT has been corrected and the final theft list has been revised accordingly. As a result of the correction, the Audi TT previously ranked No. 203 with a theft rate of 0.0000 is now ranked No. 204 with a theft rate of 0.0000.

Further reanalysis of the theft rate data revealed that the Jaguar Vanden Plas/Super V8 entry was inadvertently listed as two entries with different production volumes. The entry for Jaguar Vanden Plas/Super V8 has been corrected to list the as one entry and the production volumes have been combined. As a result of this correction, the final theft data has been revised accordingly.

The following list represents NHTSA's final calculation of theft rates for all 2006 passenger motor vehicle lines. This list is intended to inform the public of calendar year 2006 motor vehicle thefts of model year 2006 vehicles and does not have any effect on the obligations of regulated parties under 49 U.S.C. Chapter 331, Theft Prevention.

Final Report of Theft Rates for Model Year 2006 Passenger Motor Vehicles Stolen in Calendar Year 2006
Manufacturer | Make/model (line) | Thefts 2006 | Production (Mfr's) 2006 | 2006 Theft rate (per 1,000 vehicles produced)
1. DAIMLERCHRYSLER | DODGE MAGNUM | 407 | 46501 | 8.7525
2. DAIMLERCHRYSLER | DODGE CHARGER | 963 | 130892 | 7.3572
3. DAIMLERCHRYSLER | DODGE STRATUS | 569 | 79998 | 7.1127
4. GENERAL MOTORS | PONTIAC GRAND PRIX | 802 | 116458 | 6.8866
5. LAMBORGHINI | MURCIELAGO | 1 | 159 | 6.2893
6. GENERAL MOTORS | CHEVROLET MONTE CARLO | 239 | 38136 | 6.2670
7. ROLLS ROYCE | PHANTOM | 2 | 339 | 5.8997
8. DAIMLERCHRYSLER | CHRYSLER SEBRING | 250 | 43115 | 5.7984
9. DAIMLERCHRYSLER | CHRYSLER SEBRING CONVERTIBLE | 150 | 27685 | 5.4181
10. HONDA | ACURA RSX | 69 | 15111 | 4.5662
11. DAIMLERCHRYSLER | CHRYSLER 300 | 991 | 217754 | 4.5510
12. GENERAL MOTORS | PONTIAC G6 | 716 | 170394 | 4.2020
13. MITSUBISHI | GALANT | 118 | 28101 | 4.1991
14. GENERAL MOTORS | CHEVROLET MALIBU | 740 | 177262 | 4.1746
15. SUZUKI | FORENZA | 175 | 42550 | 4.1128
16. FORD MOTOR CO | FORD TAURUS | 638 | 156882 | 4.0668
17. GENERAL MOTORS | CHEVROLET IMPALA | 1044 | 262823 | 3.9723
18. GENERAL MOTORS | CHEVROLET COBALT | 844 | 229576 | 3.6763
19. NISSAN | SENTRA | 500 | 136351 | 3.6670
20. KIA | AMANTI | 29 | 8133 | 3.5657
21. HYUNDAI | SONATA | 605 | 170783 | 3.5425
22. MERCEDES-BENZ | 215 (CL-CLASS) | 79 | 22411 | 3.5251
23. MITSUBISHI | ENDEAVOR | 51 | 14546 | 3.5061
24. SUZUKI | VERONA | 7 | 2000 | 3.5000
25. HONDA | HONDA CIVIC | 362 | 103981 | 3.4814
26. DAIMLERCHRYSLER | CHRYSLER PT CRUISER | 457 | 131960 | 3.4632
27. DAIMLERCHRYSLER | JEEP GRAND CHEROKEE | 303 | 88383 | 3.4283
28. BMW | M3 | 15 | 4394 | 3.4137
29. FORD MOTOR CO | LINCOLN LS | 29 | 8499 | 3.4122
30. NISSAN | MAXIMA | 210 | 63663 | 3.2986
31. NISSAN | 350Z | 100 | 30640 | 3.2637
32. FORD MOTOR CO | FORD FOCUS | 436 | 135929 | 3.2076
33. FORD MOTOR CO | FORD CROWN VICTORIA | 35 | 10955 | 3.1949
34. HYUNDAI | ACCENT | 59 | 18685 | 3.1576
35. KIA | OPTIMA | 143 | 45859 | 3.1183
36. MAZDA | 6 | 190 | 67327 | 2.8220
37. FORD MOTOR CO | FORD MUSTANG | 431 | 153977 | 2.7991
38. SUZUKI | RENO | 22 | 7900 | 2.7848
39. MITSUBISHI | LANCER | 121 | 43750 | 2.7657
40. GENERAL MOTORS | CHEVROLET AVEO | 142 | 51353 | 2.7652
41. BMW | 7 | 77 | 28012 | 2.7488
42. SUBARU | LEGACY/OUTBACK | 59 | 21696 | 2.7194
43. DAIMLERCHRYSLER | CHRYSLER PACIFICA | 224 | 82451 | 2.7168
44. MITSUBISHI | ECLIPSE | 79 | 29582 | 2.6705
45. KIA | RIO | 91 | 34103 | 2.6684
46. GENERAL MOTORS | CADILLAC DTS | 173 | 65335 | 2.6479
47. BMW | M5 | 11 | 4309 | 2.5528
48. GENERAL MOTORS | CHEVROLET TRAILBLAZER | 373 | 148522 | 2.5114
49. FORD MOTOR CO | LINCOLN TOWN CAR | 97 | 40317 | 2.4059
50. TOYOTA | SCION TC | 189 | 80576 | 2.3456
51. GENERAL MOTORS | CHEVROLET HHR | 267 | 113967 | 2.3428
52. KIA | SPECTRA | 184 | 79152 | 2.3246
53. TOYOTA | LEXUS LS | 40 | 17220 | 2.3229
54. SUZUKI | VITARA/GRAND VITARA | 107 | 46223 | 2.3149
55. GENERAL MOTORS | CADILLAC CTS | 125 | 55066 | 2.2700
56. GENERAL MOTORS | BUICK RAINIER | 26 | 11503 | 2.2603
57. NISSAN | ALTIMA | 648 | 294015 | 2.2040
58. ISUZU | I SERIES PICKUP | 10 | 4546 | 2.1997
59. BMW | 6 | 17 | 7893 | 2.1538
60. TOYOTA | LEXUS SC | 15 | 7008 | 2.1404
61. LOTUS | ELISE | 3 | 1424 | 2.1067
62. GENERAL MOTORS | PONTIAC MONTANA VAN | 44 | 20984 | 2.0968
63. GENERAL MOTORS | PONTIAC GTO | 29 | 13857 | 2.0928
64. KIA | SORENTO | 116 | 55515 | 2.0895
65. TOYOTA | TOYOTA CAMRY/SOLARA | 517 | 252690 | 2.0460
66. JAGUAR | S-TYPE | 14 | 6855 | 2.0423
67. AUDI | A8 | 11 | 5404 | 2.0355
68. BMW | M6 | 2 | 990 | 2.0202
69. DAIMLERCHRYSLER | JEEP WRANGLER | 155 | 77976 | 1.9878
70. GENERAL MOTORS | CHEVROLET UPLANDER VAN | 122 | 62521 | 1.9513
71. TOYOTA | TOYOTA COROLLA | 653 | 336871 | 1.9384
72. GENERAL MOTORS | SATURN ION | 186 | 96227 | 1.9329
73. GENERAL MOTORS | BUICK RENDEZVOUS | 96 | 50649 | 1.8954
74. VOLVO | S80 | 14 | 7567 | 1.8501
75. DAIMLERCHRYSLER | JEEP LIBERTY | 266 | 146897 | 1.8108
76. NISSAN | INFINITI G35 | 107 | 59442 | 1.8001
77. TOYOTA | LEXUS GS | 92 | 51221 | 1.7961
78. HYUNDAI | TIBURON | 41 | 22959 | 1.7858
79. NISSAN | INFINITI FX45 | 3 | 1693 | 1.7720
80. GENERAL MOTORS | CADILLAC XLR | 7 | 3963 | 1.7663
81. HONDA | HONDA S2000 | 10 | 5666 | 1.7649
82. AUDI | A6/A6 QUATTRO/S6/S6 AVANT | 32 | 18143 | 1.7638
83. DAIMLERCHRYSLER | DODGE CARAVAN/GRAND CARAVAN | 416 | 235960 | 1.7630
84. HYUNDAI | ELANTRA | 174 | 99126 | 1.7553
85. FORD MOTOR CO | FORD FUSION | 217 | 125335 | 1.7314
86. MAZDA | 5 | 35 | 20328 | 1.7218
87. JAGUAR | X-TYPE | 10 | 5994 | 1.6683
88. NISSAN | QUEST VAN | 42 | 25378 | 1.6550
89. FORD MOTOR CO | FORD FREESTAR VAN | 84 | 51143 | 1.6425
90. MERCEDES-BENZ | 203 (C-CLASS) | 89 | 54492 | 1.6333
91. FORD MOTOR CO | FORD FIVE HUNDRED | 134 | 83031 | 1.6139
92. HUMMER | H3 | 116 | 72227 | 1.6060
93. MAZDA | RX-8 | 10 | 6415 | 1.5588
94. MERCEDES-BENZ | 220 (S-CLASS) | 22 | 14472 | 1.5202
95. GENERAL MOTORS | PONTIAC VIBE | 77 | 51168 | 1.5048
96. FORD MOTOR CO | MERCURY MOUNTAINEER | 46 | 30676 | 1.4995
97. NISSAN | FRONTIER PICKUP | 112 | 75112 | 1.4911
98. TOYOTA | SCION XB | 125 | 87219 | 1.4332
99. GENERAL MOTORS | BUICK LACROSSE/ALLURE | 107 | 76029 | 1.4074
100. JAGUAR | XKR | 1 | 713 | 1.4025
101. TOYOTA | TOYOTA TUNDRA PICKUP | 36 | 25764 | 1.3973
102. GENERAL MOTORS | GMC ENVOY | 68 | 48745 | 1.3950
103. VOLVO | S60 | 30 | 21734 | 1.3803
104. GENERAL MOTORS | CHEVROLET EQUINOX | 170 | 124123 | 1.3696
105. JAGUAR | XK8 | 2 | 1463 | 1.3671
106. VOLKSWAGEN | PASSAT | 85 | 63019 | 1.3488
107. NISSAN | MURANO | 105 | 77852 | 1.3487
108. NISSAN | PATHFINDER | 100 | 74219 | 1.3474
109. BMW | 5 | 62 | 46563 | 1.3315
110. FORD MOTOR CO | FORD RANGER PICKUP | 110 | 83737 | 1.3136
111. MAZDA | 3 | 125 | 95420 | 1.3100
112. NISSAN | XTERRA | 78 | 59988 | 1.3003
113. MAZDA | MPV VAN | 13 | 10054 | 1.2930
114. FORD MOTOR CO | MERCURY GRAND MARQUIS | 64 | 49578 | 1.2909
115. VOLKSWAGEN | GOLF/RABBIT/GTI | 24 | 18806 | 1.2762
116. MITSUBISHI | OUTLANDER | 13 | 10190 | 1.2758
117. FORD MOTOR CO | FORD ESCAPE | 194 | 152125 | 1.2753
118. TOYOTA | TOYOTA MATRIX | 70 | 56291 | 1.2435
119. GENERAL MOTORS | CHEVROLET COLORADO PICKUP | 129 | 104675 | 1.2324
120. HONDA | HONDA ACCORD | 391 | 328780 | 1.1892
121. TOYOTA | TOYOTA TACOMA PICKUP | 221 | 195700 | 1.1293
122. HONDA | ACURA TSX | 44 | 40480 | 1.0870
123. GENERAL MOTORS | GMC CANYON PICKUP | 29 | 26744 | 1.0844
124. GENERAL MOTORS | SATURN VUE | 103 | 95178 | 1.0822
125. AUDI | A3/A3 QUATTRO | 12 | 11162 | 1.0751
126. MAZDA | TRIBUTE | 35 | 33565 | 1.0428
127. TOYOTA | LEXUS ES | 32 | 30735 | 1.0412
128. MERCEDES-BENZ | 129 (SL-CLASS) | 7 | 6731 | 1.0400
129. FORD MOTOR CO | FORD FREESTYLE | 57 | 54980 | 1.0367
130. NISSAN | INFINITI M35/M45 | 42 | 40627 | 1.0338
131. TOYOTA | TOYOTA 4RUNNER | 108 | 104758 | 1.0309
132. AUDI | A4/A4 QUATTRO/S4/S4 AVANT | 49 | 48023 | 1.0203
133. FORD MOTOR CO | MERCURY MILAN | 35 | 34506 | 1.0143
134. DAIMLERCHRYSLER | CHRYSLER TOWN & COUNTRY | 177 | 175760 | 1.0071
135. TOYOTA | SCION XA | 50 | 49664 | 1.0068
136. MERCEDES-BENZ | 208 (CLK-CLASS) | 17 | 17150 | 0.9913
137. GENERAL MOTORS | PONTIAC TORRENT | 48 | 48750 | 0.9846
138. NISSAN | INFINITI FX35 | 17 | 17326 | 0.9812
139. SUBARU | IMPREZA | 41 | 41987 | 0.9765
140. SUZUKI | AERIO | 17 | 17417 | 0.9761
141. HYUNDAI | SANTA FE | 32 | 32802 | 0.9756
142. HONDA | ACURA 3.2 TL | 74 | 77849 | 0.9506
143. GENERAL MOTORS | CHEVROLET CORVETTE | 30 | 31595 | 0.9495
144. GENERAL MOTORS | BUICK LUCERNE | 81 | 85961 | 0.9423
145. HYUNDAI | TUCSON | 52 | 55399 | 0.9386
146. TOYOTA | TOYOTA AVALON | 90 | 97247 | 0.9255
147. ASTON MARTIN | DB9 | 1 | 1085 | 0.9217
148. GENERAL MOTORS | CADILLAC FUNERAL COACH/HEARSE | 1 | 1096 | 0.9124
149. MERCEDES-BENZ | 210 (E-CLASS) | 55 | 61563 | 0.8934
150. VOLVO | V50 | 4 | 4480 | 0.8929
151. VOLKSWAGEN | JETTA | 108 | 123317 | 0.8758
152. FORD MOTOR CO | MERCURY MONTEGO | 17 | 19464 | 0.8734
153. JAGUAR | XJ8/XJ8L | 3 | 3444 | 0.8711
154. TOYOTA | LEXUS IS | 43 | 49960 | 0.8607
155. BMW | 3 | 127 | 151673 | 0.8373
156. FORD MOTOR CO | LINCOLN ZEPHYR | 26 | 31265 | 0.8316
157. TOYOTA | TOYOTA RAV4 | 94 | 114912 | 0.8180
158. VOLVO | S40 | 20 | 24505 | 0.8162
159. ISUZU | ASCENDER | 3 | 3857 | 0.7778
160. HYUNDAI | AZERA | 19 | 24492 | 0.7758
161. PORSCHE | BOXSTER | 4 | 5314 | 0.7527
162. PORSCHE | CAYMAN | 4 | 5360 | 0.7463
163. SUBARU | B9 TRIBECA | 22 | 30027 | 0.7327
164. BENTLEY MOTORS | CONTINENTAL | 3 | 4097 | 0.7322
165. VOLVO | XC90 | 24 | 32962 | 0.7281
166. KIA | SPORTAGE | 30 | 42832 | 0.7004
167. FORD MOTOR CO | MERCURY MARINER | 21 | 30137 | 0.6968
168. GENERAL MOTORS | PONTIAC SOLSTICE | 13 | 18748 | 0.6934
169. VOLKSWAGEN | NEW BEETLE | 27 | 41361 | 0.6528
170. HONDA | HONDA ELEMENT | 29 | 45132 | 0.6426
171. GENERAL MOTORS | CADILLAC STS | 20 | 31368 | 0.6376
172. BMW | Z4/M | 7 | 10981 | 0.6375
173. TOYOTA | TOYOTA SIENNA VAN | 120 | 192771 | 0.6225
174. TOYOTA | LEXUS RX | 48 | 77147 | 0.6222
175. DAIMLERCHRYSLER | DODGE VIPER | 1 | 1630 | 0.6135
176. PORSCHE | 911 | 8 | 13407 | 0.5967
177. SAAB | 9-2X | 1 | 1731 | 0.5777
178. KIA | SEDONA VAN | 30 | 52064 | 0.5762
179. MITSUBISHI | MONTERO | 1 | 1778 | 0.5624
180. TOYOTA | TOYOTA HIGHLANDER | 96 | 176213 | 0.5448
181. BMW | X3 | 15 | 27743 | 0.5407
182. MAZDA | MX-5 MIATA | 11 | 20688 | 0.5317
183. SUBARU | FORESTER | 28 | 54405 | 0.5147
184. FORD MOTOR CO | MERCURY MONTEREY VAN | 2 | 4017 | 0.4979
185. HONDA | HONDA PILOT | 73 | 147629 | 0.4945
186. SAAB | 9-3 | 11 | 22542 | 0.4880
187. HONDA | ACURA 3.5 RL | 6 | 12556 | 0.4779
188. VOLVO | V70 | 3 | 6355 | 0.4721
189. HONDA | HONDA CR-V | 70 | 149659 | 0.4677
190. VOLVO | XC70 | 6 | 12895 | 0.4653
191. GENERAL MOTORS | SATURN RELAY | 2 | 4935 | 0.4053
192. HONDA | HONDA ODYSSEY VAN | 75 | 192364 | 0.3899
193. HONDA | ACURA MDX | 20 | 51380 | 0.3893
194. BMW | MINI COOPER | 17 | 51271 | 0.3316
195. SUBARU | BAJA | 2 | 7498 | 0.2667
196. MAZDA | B SERIES PICKUP | 1 | 4229 | 0.2365
197. GENERAL MOTORS | BUICK TERRAZA VAN | 3 | 12767 | 0.2350
198. DAIMLERCHRYSLER | CHRYSLER CROSSFIRE | 1 | 6186 | 0.1617
199. TOYOTA | TOYOTA PRIUS | 14 | 87310 | 0.1603
200. MERCEDES-BENZ | 170 (SLK-CLASS) | 2 | 13475 | 0.1484
201. SUBARU | OUTBACK | 5 | 57806 | 0.0865
202. ASTON MARTIN | VANQUISH | 0 | 467 | 0.0000
203. ASTON MARTIN | VANTAGE | 0 | 161 | 0.0000
204. AUDI | TT | 0 | 1199 | 0.0000
205. BENTLEY MOTORS | ARNAGE | 0 | 228 | 0.0000
206. BUGATTI | VEYRON | 0 | 17 | 0.0000
207. FERRARI | MARANELLO/F1 | 0 | 1392 | 0.0000
208. FORD MOTOR CO | FORD GT | 0 | 1729 | 0.0000
209. GENERAL MOTORS | CADILLAC LIMOUSINE | 0 | 922 | 0.0000
210. HONDA | HONDA INSIGHT | 0 | 803 | 0.0000
211. JAGUAR | VANDEN PLAS/SUPER V8 | 0 | 1761 | 0.0000
212. JAGUAR | XJR | 0 | 307 | 0.0000
213. LAMBORGHINI | GALLARDO | 0 | 392 | 0.0000
214. MASERATI | GRANSPORT | 0 | 51 | 0.0000
215. MASERATI | QUATTROPORTE | 0 | 1609 | 0.0000
216. MASERATI | SPYDER/F1 | 0 | 777 | 0.0000
217. NISSAN | INFINITI Q45 | 0 | 140 | 0.0000
218. SAAB | 9-5 | 0 | 11620 | 0.0000
219. SAAB | 9-7X | 0 | 5484 | 0.0000
220. SALEEN | S7 | 0 | 16 | 0.0000
221. SPYKER | C8 | 0 | 13 | 0.0000
222. TOYOTA | TOYOTA YARIS | 0 | 2571 | 0.0000
223. VOLKSWAGEN | PHAETON | 0 | 259 | 0.0000

Issued on: October 7, 2008.
Stephen R. Kratzke,
Associate Administrator for Rulemaking.

[FR Doc. E8-24231 Filed 10-10-08; 8:45 am]

BILLING CODE 4910-59-P